COMMITTEE FOR PURCHASE FROM PEOPLE WHO ARE BLIND OR SEVERELY DISABLED

Procurement List; Redesignation of Services

AGENCY: Committee for Purchase from People Who Are Blind or Severely Disabled.

ACTION: Redesignation of procurement list services.

SUMMARY: This notice redesignates services on the Procurement List which will be procured on a Basewide basis rather than for individual buildings. These services are being performed for the Department of the Army, 99th Regional Support Command at the Johnstown Aviation Support Facility in Johnstown, Pennsylvania. Comments on this redesignation must be received by February 15, 2004.

EFFECTIVE DATE: February 16, 2004.

ADDRESSES: Committee for Purchase From People Who Are Blind or Severely Disabled, Jefferson Plaza 2, Suite 10800, 1421 Jefferson Davis Highway, Arlington, Virginia, 2202-3259.

FOR FURTHER INFORMATION CONTACT: Sheryl D. Kennerly, (703) 603-7740.

SUPPLEMENTARY INFORMATION: The following services are on the Procurement List to be performed by the designated nonprofit agency for the Department of the Army, 99th Regional Support Command as identified below:

Service Type/Location: Janitorial/Custodial, Johnstown Aviation Support Facility, Airport Road #2, Johnstown, Pennsylvania.

NPA: Goodwill Industries of the Connemaugh Valley, Inc., Johnstown, Pennsylvania.

Contract Activity: Department of the Army, Oakdale Pennsylvania.

Service Type/Location: Janitorial/Custodial, U.S. Marine Corps Reserve Center, Johnstown, Pennsylvania.

NPA: Goodwill Industries of the Connemaugh Valley, Inc., Johnstown, Pennsylvania.

Contract Activity: 99th Regional Support Command, Coraopolis, Pennsylvania.

The above services will be procured by the 99th Regional Support Command, Department of the Army on a Basewide basis and are thus being redesignated collectively on the Procurement List as set forth below, and the nonprofit agency identified below has been designated as the qualified nonprofit agency authorized to provide the services.

Service Type/Location: Janitorial/Custodial, Basewide, Johnstown Aviation Support Facility, Johnstown, Pennsylvania.

NPA: Goodwill Industries of the Connemaugh Valley, Inc., Johnstown, Pennsylvania.

Contract Activity: 99th Regional Support Command, Coraopolis, Pennsylvania.

Sheryl D. Kennerly,
Director, Information Management.

[FR Doc. 04-1029 Filed 1-15-04; 8:45 am]

BILLING CODE 6530-01-P